DEPARTMENT OF JUSTICE

Office of Justice Programs

[OJP (OJJDP) Docket No. 1596]

Meeting of the Attorney General's National Task Force on Children Exposed to Violence (Correction)

AGENCY: Office of Justice Programs, Justice.

ACTION: Notice; correction.

SUMMARY: The Office of Justice Programs (OJP) published a notice in the Federal Register on July 2, 2012, announcing a meeting of the Attorney General's National Task Force on Children Exposed to Violence (the “task force”). As that notice stated, the final agenda was still being developed at the time of the July 2, 2012, notice. The purpose of this notice is to announce that the task force will not hold a public meeting on July 24th and 25th, but rather, will be conducting preparatory work related to developing a draft report to the Attorney General. OJP will provide notice of future public meetings of the task force as they are scheduled.

FOR FURTHER INFORMATION CONTACT: Will Bronson, Designated Federal Officer (DFO), Deputy Associate Administrator, Child Protection Division, Office of Juvenile Justice & Delinquency Prevention, Office of Justice Programs, 810 7th Street NW., Washington, DC 20531. Phone: (202) 305-2427 [Note: this is not a toll-free number]; email: willie.bronson@usdoj.gov.

Catherine Pierce,
Associate Administrator, Office of Justice Programs, Office of Juvenile Justice and Delinquency Prevention, Child Protection Division.

[FR Doc. 2012-17472 Filed 7-17-12; 8:45 am]

BILLING CODE 4410-18-P